DEPARTMENT OF TRANSPORTATION

Federal Aviation Administration

14 CFR Part 39

[Docket No. 2002-NM-95-AD; Amendment 39-13368; AD 2003-23-04]

RIN 2120-AA64

Airworthiness Directives; Boeing Model 757-200 Series Airplanes

AGENCY: Federal Aviation Administration, DOT.

ACTION: Final rule.

SUMMARY: This amendment supersedes an existing airworthiness directive (AD), applicable to certain Boeing Model 757-200 series airplanes, that currently requires modification of the number 3 left and right emergency exit doors. This amendment requires a new, improved modification of the number 3 left and right emergency exit doors, which terminates the requirements in the existing AD. The actions specified by this AD are intended to prevent the number 3 emergency exit doors from jamming, which could impede the safe evacuation of passengers and crew during an emergency. This action is intended to address the identified unsafe condition.

DATES: Effective December 23, 2003.

The incorporation by reference of certain publications listed in the regulations is approved by the Director of the Federal Register as of December 23, 2003.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Keith Ladderud, Aerospace Engineer, Cabin Safety and Environmental Systems Branch, ANM-150S, FAA, Seattle Aircraft Certification Office, 1601 Lind Avenue, SW., Renton, Washington 98055-4056; telephone (425) 917-6435; fax (425) 917-6590.

SUPPLEMENTARY INFORMATION: A proposal to amend part 39 of the Federal Aviation Regulations (14 CFR part 39) by superseding AD 91-01-05, amendment 39-6850 (55 FR 52967, December 26, 1990), which is applicable to certain Boeing Model 757 series airplanes, was published in the Federal Register on June 2, 2003 (68 FR 32691). The action proposed to require a new, improved modification of the number 3 left and right emergency exit doors, which would terminate the requirements in the existing AD.

Comments

Interested persons have been afforded an opportunity to participate in the making of this amendment. Due consideration has been given to the comments received.

Support for Proposed Rule

One commenter states that it fully supports the proposed rule.

Request To Withdraw Proposed Rule

Another commenter states that a reliability review of the number 3 emergency exit doors on its Model 757 fleet revealed zero events of difficulty in operating the number 3 doors. The commenter further states that it has already accomplished a terminating action for AD 91-01-05. For these reasons, the commenter asserts that additional modification to the number 3 emergency exit doors is not warranted on its Model 757-200 fleet.

From these statements, we infer that the commenter is requesting that we withdraw the proposed rule. We do not agree. Since the issuance of AD 91-01-05, we have received reports from several operators that had difficulty opening the number 3 emergency exit doors or had them become completely jammed during opening. These events occurred even though the number 3 emergency exit doors on these airplanes had been modified per the requirements of AD 91-01-05. Therefore, we find it necessary to mandate a design change that will prevent the number 3 emergency exit doors from being difficult to open or from becoming completely jammed. No change to the final rule is made.

Conclusion

After careful review of the available data, including the comments noted above, the FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 398 airplanes of the affected design in the worldwide fleet. The FAA estimates that 117 airplanes of U.S. registry will be affected by this AD.

The modification that is currently required by AD 91-01-05 takes approximately 3 work hours per airplane to accomplish, at an average labor rate of $65 per work hour. Required parts will cost approximately $95 per airplane. Based on these figures, the cost impact of the currently required modification is estimated to be $290 per airplane.

The new modification that is required in this AD will take approximately 6 work hours per airplane (3 work hours per door) to accomplish, at an average labor rate of $65 per work hour. Required parts will cost approximately $8,000 per kit, per airplane. Based on these figures, the cost impact of the new modification on U.S. operators is estimated to be $981,630, or $8,390 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-6850 (55 FR 52967, December 26, 1990), and by adding a new airworthiness directive (AD), to read as follows:

2003-23-04 Boeing: Amendment 39-13368. Docket 2002-NM-95-AD. Supersedes AD 91-01-05, Amendment 39-6850.

Applicability: Model 757-200 series airplanes having a four-door configuration, as listed in Boeing Special Attention Service Bulletin 757-25-0237, Revision 2, dated December 12, 2002; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent the number 3 emergency exit doors from jamming, which could impede the safe evacuation of passengers and crew during an emergency, accomplish the following:

Modification

(a) Within 36 months after the effective date of this AD: Modify the number 3 left and right emergency exit doors per the Accomplishment Instructions of Boeing Special Attention Service Bulletin 757-25-0237, Revision 2, dated December 12, 2002. The modification involves replacing the header panel assemblies of the number 3 left and right emergency exit doors (includes replacing the double hinged panels above the doors with new single panels), trimming the top portion of the door liner seal, and installing a new seal, retainer, and support angle. Accomplishment of the modification required by this paragraph terminates the requirements of AD 91-01-05, amendment 39-6850.

Credit for Actions Done per Previous Issue of Service Bulletin

(b) Modifications done before the effective date of this AD per Boeing Special Attention Service Bulletin 757-25-0237 dated October 18, 2001; or Revision 1, dated January 24, 2002; are considered acceptable for compliance with paragraph (a) of this AD.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 2: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the actions shall be done per Boeing Special Attention Service Bulletin 757-25-0237, Revision 2, dated December 12, 2002. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on December 23, 2003.

Issued in Renton, Washington, on November 7, 2003.
Kalene C. Yanamura, Acting Manager,
Transport Airplane Directorate, Aircraft Certification Service.

[FR Doc. 03-28493 Filed 11-17-03; 8:45 am]

BILLING CODE 4910-13-P